DEPARTMENT OF HEALTH AND HUMAN SERVICES

Centers for Disease Control and Prevention

[30Day-16-0914]

Agency Forms Undergoing Paperwork Reduction Act Review

The Centers for Disease Control and Prevention (CDC) has submitted the following information collection request to the Office of Management and Budget (OMB) for review and approval in accordance with the Paperwork Reduction Act of 1995. The notice for the proposed information collection is published to obtain comments from the public and affected agencies.

Written comments and suggestions from the public and affected agencies concerning the proposed collection of information are encouraged. Your comments should address any of the following: (a) Evaluate whether the proposed collection of information is necessary for the proper performance of the functions of the agency, including whether the information will have practical utility; (b) Evaluate the accuracy of the agencies estimate of the burden of the proposed collection of information, including the validity of the methodology and assumptions used; (c) Enhance the quality, utility, and clarity of the information to be collected; (d) Minimize the burden of the collection of information on those who are to respond, including through the use of appropriate automated, electronic, mechanical, or other technological collection techniques or other forms of information technology, e.g., permitting electronic submission of responses; and (e) Assess information collection costs.

To request additional information on the proposed project or to obtain a copy of the information collection plan and instruments, call (404) 639-7570 or send an email to omb@cdc.gov. Written comments and/or suggestions regarding the items contained in this notice should be directed to the Attention: CDC Desk Officer, Office of Management and Budget, Washington, DC 20503 or by fax to (202) 395-5806. Written comments should be received within 30 days of this notice.

Proposed Project

Workplace Violence Prevention Programs in NJ Healthcare Facilities (OMB Control No. 0920-0914, Expiration 2/29/2016)—Revision—National Institute for Occupational Safety and Health (NIOSH), Centers for Disease Control and Prevention (CDC).

Background and Brief Description

Through this information collection revision request, the National Institute for Occupational Safety and Health (NIOSH) is seeking an additional two-year OMB approval.

NIOSH originally received OMB approval to evaluate the legislation at 50 hospitals and 20 nursing homes, to conduct a nurse survey, and a home healthcare aide survey. Data collection is complete for the hospitals, the nurse survey, and the home healthcare aide survey. We were unable to conduct the 20 nursing home interviews. Therefore, we are requesting approval to revise the existing information collection in order to complete the 20 nursing home interviews, as well as include an additional 20 nursing homes (40 total) in the collection. The current approval also includes a survey that collects nursing home injury data. We would like to drop this survey and, instead, collect publicly available workers compensation data.

Healthcare workers are nearly five times more likely to be victims of violence than workers in all industries combined. While healthcare workers are not at particularly high risk for job-related homicide, nearly 60% of all nonfatal assaults occurring in private industry are experienced in healthcare. Six states have enacted laws to reduce violence against healthcare workers by requiring workplace violence prevention programs. However, little is understood about how effective these laws are in reducing violence against healthcare workers.

The long-term goal of the proposed project is to reduce violence against healthcare workers. The objective of the proposed study is: (1) To examine nursing home compliance with the New Jersey Violence Prevention in Health Care Facilities Act, and (2) to evaluate the effectiveness of the regulations in this Act in reducing assault injuries to nursing home workers. Our central hypothesis is that nursing homes with high compliance with the regulations will have lower rates of employee violence-related injury.

We will conduct face-to-face interviews with the nursing home administrators in 40 nursing homes (20 in New Jersey and 20 in Virginia) who are in charge of overseeing compliance efforts. The purpose of the interviews is to measure compliance to the state regulations: Violence prevention policies, reporting systems for violent events, violence prevention committee, written violence prevention plan, violence risk assessments, post incident response and violence prevention training. A contractor will conduct the interviews.

The table below shows the estimated annualized burden hours. Twenty respondents (nursing home administrators) will be interviewed each year. This will include 10 respondents from Virginia and 10 respondents from New Jersey. The abstraction form and the committee chair interview form will be used during each interview. Each form will take approximately one hour which results in 20 burden hours each. The total estimated and time-related burden is 40 hours.

There are no costs to respondents other than their time.

Estimated Annualized Burden Hours
Type of respondents | Form name | Number of respondents | Number of responses per respondent | Average burden per response (in hrs.)
Nursing Home Administrator | Evaluation of Nursing Home Workplace Violence Prevention Program: Abstraction Form | 20 | 1 | 1
Nursing Home Administrator | Committee Chair Interview | 20 | 1 | 1

Leroy A. Richardson,
Chief, Information Collection Review Office, Office of Scientific Integrity, Office of the Associate Director for Science, Office of the Director, Centers for Disease Control and Prevention.

[FR Doc. 2015-27301 Filed 10-26-15; 8:45 am]

BILLING CODE 4163-18-P